DEPARTMENT OF THE TREASURY

Submission for OMB Review; Comment Request

ACTION: Notice; correction.

SUMMARY: The Department of the Treasury published a document in the Federal Register on October 24, 2014 (79 FR 63669), inviting comments on collections of information submitted to the Office of Management and Budget (OMB) for review. This document contained an incorrect office reference.

Correction

In the Federal Register of October 24, 2014, in FR Doc. 2014-25351, make the following corrections:

• Page 63669, in the second column, under SUMMARY: remove “Currently, the Office of the Assistant Secretary for Financial Markets, within the Department of the Treasury, is soliciting comments concerning the New Issue Bond Program and Temporary Credit and Liquidity Program.”

Dated: October 28, 2014.
Brenda Simms,
Treasury PRA Clearance Officer.

[FR Doc. 2014-25959 Filed 10-30-14; 8:45 am]

BILLING CODE 4810-25-P